ENVIRONMENTAL PROTECTION AGENCY

[FRL-9949-37-OARM]

Good Neighbor Environmental Board; Notification of Public Advisory Committee Teleconference

AGENCY: Environmental Protection Agency (EPA).

ACTION: Notice of Public Advisory Committee Teleconference.

SUMMARY: Pursuant to the Federal Advisory Committee Act, Public Law 92-463, notice is hereby given that the Good Neighbor Environmental Board (Board) will hold a public teleconference on Friday, August 26 from 12:00 p.m.-4:00 p.m. Eastern Daylight Time. For further information regarding the teleconference and background materials, please contact Ann-Marie Gantner at the number and email provided below.

Background: The Good Neighbor Environmental Board is a federal advisory committee chartered under the Federal Advisory Committee Act, Public Law 92-463. By statute, the Board is required to submit an annual report to the President on environmental and infrastructure issues along the U.S. border with Mexico.

Purpose of Meeting: The purpose of this teleconference is to continue discussion on the Good Neighbor Environmental Board's Seventeenth Report to the President, which will focus on climate change resilience in the U.S.-Mexico border region.

General Information: The agenda and teleconference materials, as well as general information about the Board, can be found at http://www2.epa.gov/faca/gneb. If you wish to make oral comments or submit written comments to the Board, please contact Ann-Marie Gantner at least five days prior to the teleconference.

Meeting Access: For information on access or services for individuals with disabilities, please contact Ann-Marie Gantner at (202) 564-4330 or email at gantner.ann-marie@epa.gov. To request accommodation of a disability, please contact Ann-Marie Gantner at least 10 days prior to the meeting to give EPA as much time as possible to process your request.

Dated: July 12, 2016.
Ann-Marie Gantner,
Designated Federal Officer.

[FR Doc. 2016-17276 Filed 7-20-16; 8:45 am]

BILLING CODE 6560-50-P